ENVIRONMENTAL PROTECTION AGENCY

[EPA-R01-OAR-2012-0290; A-1-FRL-9672-6]

Adequacy Status of the Submitted 2008 and 2022 VOC and NOX Motor Vehicle Emissions Budgets for Transportation Conformity Purposes; New Hampshire; Boston-Manchester-Portsmouth (SE), New Hampshire, 8-Hour Ozone Area

AGENCY: Environmental Protection Agency (EPA).

ACTION: Notice of adequacy.

SUMMARY: EPA is notifying the public that EPA has found that the 2008 and 2022 motor vehicle emissions budgets in the March 2, 2012 New Hampshire State Implementation Plan (SIP) revision are adequate for transportation conformity purposes. The submittal includes MOVES2010 motor vehicle emissions budgets for 2008 and 2022 for the Boston-Manchester-Portsmouth (Southeast), New Hampshire 8-hour ozone area. As a result of our finding, the State of New Hampshire must use these motor vehicle emissions budgets for future conformity determinations for the Boston-Manchester-Portsmouth (Southeast), New Hampshire 8-hour ozone area.

DATES: These motor vehicle emissions budgets are effective May 29, 2012.

FOR FURTHER INFORMATION CONTACT: Donald O. Cooke, Air Quality Planning Unit, U.S. Environmental Protection Agency, EPA New England Regional Office, Office of Ecosystem Protection, Air Quality Planning Unit, 5 Post Office Square—Suite 100, (Mail code OEP05-2), Boston, MA 02109-3912, telephone number (617) 918-1668, fax number (617) 918-0668, email cooke.donald@epa.gov.

SUPPLEMENTARY INFORMATION: Throughout this document, whenever “we,” “us” or “our” is used, we mean EPA.

Today's notice is simply an announcement of a finding that we have already made. EPA New England sent a letter to the New Hampshire Department of Environmental Services on April 25, 2012, stating that the 2008 and 2022 MOVES2010 motor vehicle emissions budgets (MVEBs) in the March 2, 2012 SIP are adequate for transportation conformity purposes. This submittal will also be announced on EPA's conformity Web site: http://www.epa.gov/otaq/stateresources/transconf/adequacy.htm, (once there, click on “What SIP submissions has EPA already found adequate or inadequate?”). The adequate 2008 and 2022 MVEBs are provided in the following table:

Adequate Motor Vehicle Emissions Budgets
| VOC (tons per summer day) | NOX (tons per summer day)
Year 2008 MVEBs for the Boston-Manchester-Portsmouth (Southeast), New Hampshire 8-Hour Ozone Area. | 17.8 | 37.2
Year 2022 MVEBs for the Boston-Manchester-Portsmouth (Southeast), New Hampshire 8-Hour Ozone Area. | 8.9 | 11.8

Transportation conformity is required by section 176(c) of the Clean Air Act. EPA's conformity rule requires that transportation plans, programs, and projects conform to state air quality implementation plans and establishes the criteria and procedures for determining whether or not they do. Conformity to a SIP means that transportation activities will not produce new air quality violations, worsen existing violations, or delay timely attainment of the national ambient air quality standards.

The criteria by which we determine whether a SIP's motor vehicle emissions budgets are adequate for conformity purposes are outlined in 40 CFR 93.118(e)(4). We have described our process for determining the adequacy of submitted SIP budgets in our July 1, 2004, preamble starting at 69 FR 40038, and we used the information in these resources while making our adequacy determination. Please note that an adequacy review is separate from EPA's completeness review, and it also should not be used to prejudge EPA's ultimate approval of the SIP. Even if we find a budget adequate, the SIP could later be disapproved.

Authority: 42 U.S.C. 7401-7671q.

Dated: May 2, 2012.
Ira W. Leighton,
Acting Regional Administrator, EPA New England.

[FR Doc. 2012-11648 Filed 5-11-12; 8:45 am]

BILLING CODE 6560-50-P